GENERAL SERVICES ADMINISTRATION

[Docket 2010-0005; Sequence 14]

Draft Concept for Government-Wide “ExpertNet” Platform and Process To Elicit Expert Public Participation in Response to Government Questions

AGENCY: U.S. General Services Administration.

ACTION: Notice; request for public comment.

SUMMARY: With this notice, the U.S. General Services Administration (GSA) requests input, comment, and ideas from the public on a draft concept for next-generation citizen consultation, namely a government-wide software tool and process to elicit expert public participation (working title “ExpertNet”). ExpertNet would tap the expertise of the public in a manageable and structured format. The goal of ExpertNet is to enable government officials to search for and communicate with citizens who have expertise on a topic, giving them the opportunity to participate in a public consultation relevant to their areas of interest and know-how, and pose questions to and interact with the public to receive useful, relevant, and manageable feedback. This Request for Information (RFI) will be active from December 8, 2010 to January 7, 2011. Respondents are invited to provide comments about or edits directly to the draft of the concept paper via an online discussion forum and wiki hosted by the White House Open Government Initiative and GSA and located at http://expertnet.wikispaces.com (the “Wiki”). In addition, respondents who cannot access the Wiki are welcome to download a copy of the concept paper at http://www.whitehouse.gov/open and e-mail comments to expertnet@ostp.gov.

DATES: Comments must be posted at http://expertnet.wikispaces.com or received via e-mail by January 7, 2011.

Comments submitted in response to this notice whether via the Wiki or e-mail will be available to the public online. For this reason, please do not include in your comments information of a confidential nature, such as sensitive personal information or proprietary information.

FOR FURTHER INFORMATION CONTACT: expertnet@ostp.gov. This inbox will close on January 8, 2011.

Background: On his first full day in office, President Obama issued the Memorandum on Transparency and Open Government in which he declared: “Knowledge is widely dispersed in society, and public officials benefit from having access to that dispersed knowledge.” Upon signing the Memorandum, the President explained the Administration's commitment to creating opportunities for Americans to participate in government:

Our commitment to openness means more than simply informing the American people about how decisions are made. It means recognizing that government does not have all the answers and that public officials need to draw on what citizens know.

Invitation To Comment

To that end, GSA is soliciting your feedback on a draft concept for a consultation platform to obtain timely, manageable, and relevant information for making decisions. The explanation of this concept (also known as a “use case”) states in broad terms how the envisioned software platform and process for soliciting public expertise would work to:

• Enable government officials to circulate notice of opportunities for the public to share its expertise on a topic.

• Provide the public with a mechanism to provide useful, relevant, and manageable feedback to government officials.

The proposed platform is intended to be complementary to two of the ways the Federal government currently obtains expertise to inform decision-making, namely by convening Federal Advisory Committees and announcing public comment opportunities in the Federal Register.

We are looking for respondents to read the concept paper and provide:

1. Any refinements or suggestions to improve the process as described.

2. Any issues (legal, policy, technical) raised by the features described.

3. Information about any tools that perform the process described in that step.

4. Pointers to organizations (public or private) that have a similar platform in place.

To be clear, there is currently no funding identified for building this platform nor is it clear if future funding will be available. Hence, respondents should be sure that feedback, when possible, addresses opportunities for implementing solutions at little to no cost, including multi-sector partnerships.

○ There are three ways to provide feedback:

○ Respondents may make edits directly to the use case via the Wiki.

○ Alternatively, respondents may review each section of the use case and provide comments via an online discussion forum on the Wiki.

○ In the event respondents cannot access the Wiki, they may e-mail comments to expertnet@ostp.gov.

Dated: December 3, 2010.
Keith D. Thurston,
Assistant Associate Administrator, Citizen Services and Innovative Technologies.

[FR Doc. 2010-30861 Filed 12-7-10; 8:45 am]

BILLING CODE P